DEPARTMENT OF ENERGY

Federal Energy Regulatory Commission

Thunder Bay Power Company, Thunder Bay Power, LLC, et al.; Notice of Application for Transfer of Licenses, and Soliciting Comments and Motions To Intervene

Thunder Bay Power Company | Project No. 2404-095
Thunder Bay Power, LLC
Midwest Hydro, Inc. | Project Nos. 2348-035, 287-034, 2347-049, 2373-010
Midwest Hydro, LLC
Midwest Hydraulic Company, Inc | Project No. 10805-054
Midwest Hydraulic Company, LLC
N.E.W. Hydro, Inc | Project Nos. 2550-026, 2689-039, 2523-052, 2744-040
N.E.W. Hydro, LLC
N.E.W. Hydro, Inc. and Neenah Paper FR, LLC | Project No. 7264-024
N.E.W. Hydro, LLC and Neenah Paper FR, LLC, jointly

On January 3, 2012, see Table below, all wholly-owned subsidiaries of North American Hydro Holdings, Inc. filed an application to transfer the licenses for the following projects:

Project No. | Transferor | Transferee | Project name | Location
P-2404-095 | Thunder Bay Power Company | Thunder Bay Power, LLC | Thunder Bay Basin Project | Upper Branch River, Alpena, Montmorency, Alcona, Presque Isle, and Oscoda counties, MI.
P-2348-035 | Midwest Hydro, Inc | Midwest Hydro, LLC | Beloit Blackhawk | Rock River, Rock County, WI.
P-287-034 | Midwest Hydro, Inc | Midwest Hydro, LLC | Dayton | Fox River, LaSalle County, IL.
P-2347-049 | Midwest Hydro, Inc | Midwest Hydro, LLC | Janesville Central | Rock River, Rock County, WI.
P-2373-010 | Midwest Hydro, Inc | Midwest Hydro, LLC | Rockton | Rock River, Winnebago County, IL.
P-10805-054 | Midwest Hydraulic Company, Inc | Midwest Hydraulic Company, LLC | Hatfield | Black River, Jackson and Clark counties, WI.
P-2550-026 | N.E.W. Hydro, Inc | N.E.W. Hydro, LLC | Weyauwega | Waupaca River, Waupaca County, WI.
P-2689-039 | N.E.W. Hydro, Inc | N.E.W. Hydro, LLC | Oconto Falls Lower | Oconto River, Oconto County, WI.
P-2523-052 | N.E.W. Hydro, Inc | N.E.W. Hydro, LLC | Oconto Falls Upper | Oconto River, Oconto County, WI.
P-2744-040 | N.E.W. Hydro, Inc | N.E.W. Hydro, LLC | Menominee/Park Mill | Menominee River, Marinette County, WI and Menominee County, MI.
P-7264-024 | Neenah Paper FR, LLC and N.E.W. Hydro, Inc | Neenah Paper FR, LLC and N.E.W. Hydro, LLC, jointly | Middle Appleton Dam | Lower Fox River, Outagamie County, WI.

Applicants seek Commission approval to transfer the licenses for the above projects from the transferors to the transferees.

Applicants' Contact: Transferors and Transferees: Mr. Charles F. Alsberg, Chief Executive Officer, North American Hydro Holdings, Inc., 116 State Street, Neshkoro, WI 54960, (920) 293-4628, Ext. 11 and Mr. Donald H. Clarke, Esq., Law Offices of GKRSE, 1500 K Street NW., Suite 330, Washington, DC 20005, (202) 408-5400.

FERC Contact: Patricia W. Gillis, (202) 502-8735, patricia.gillis@ferc.gov.

Deadline for filing comments and motions to intervene: 15 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket numbers (P-2404, P-2348, P-287, P-2347, P-2373, P-10805, P-2550, P-2689, P-2523, P-2744, and P-7264) in the docket number field to access the document. For assistance, call toll-free 1-(866) 208-3372.

Dated: January 13, 2012.
Kimberly D. Bose,
Secretary.

[FR Doc. 2012-1071 Filed 1-19-12; 8:45 am]

BILLING CODE 6717-01-P